NATIONAL AERONAUTICS AND SPACE ADMINISTRATION

14 CFR Ch. V

Regulatory Agenda

AGENCY: National Aeronautics and Space Administration (NASA).

ACTION: Semiannual regulatory agenda.

SUMMARY: NASA's regulatory agenda describes those regulations being considered for development or amendment by NASA, the need and legal basis for the actions being considered, the name and telephone number of the knowledgeable official, whether a regulatory analysis is required, and the status of regulations previously reported.

ADDRESSES: Deputy Associate Administrator, Office of the Mission Support Directorate, NASA Headquarters, Washington, DC 20546.

FOR FURTHER INFORMATION CONTACT: Cheryl E. Parker, (202) 358-0252.

SUPPLEMENTARY INFORMATION: OMB guidelines dated March 2, 2017, “Spring 2017 Unified Agenda of Federal Regulatory and Deregulatory Actions,” require a regulatory agenda of those regulations under development and review to be published in the Federal Register each spring and fall.

Dated: March 31, 2017.
Daniel Tenney,
Deputy Associate Administrator, Office of the Mission Support Directorate.

>National Aeronautics and Space Administration—Final Rule Stage
Sequence No. | Title | Regulation Identifier No.
203 | Processing of Monetary Claims (Section 610 Review) | 2700-AD83

NATIONAL AERONAUTICS AND SPACE ADMINISTRATION (NASA)

Final Rule Stage

203. Processing of Monetary Claims (Section 610 Review)

Legal Authority: 31 U.S.C. 3711

Abstract: NASA is amending its regulations at 14 CFR 1261 to change collection installment payment amounts from $20,000 to $100,000 to align with title 31 subchapter II Claims of the United States Government section 3711 (a)(2) Collection and Compromise. Subpart 4 prescribes standards for the administrative collection compromise suspension or termination of collection and referral to the Government Accountability Office (GAO) and/or to the Department of Justice for litigation of civil claims. As defined by 31 U.S.C. 3701(b), civil claims arising out of the activities of designated NASA officials authorized to effect actions requires compliance with GAO/DOJ joint regulations at 4 CFR parts 101-105 and the Office of Personnel Management regulations at 5 CFR part 550 subpart K. There are also some statute citation and terminology updates.

Timetable:

Action | Date | FR Cite
Direct Final Rule | 08/00/17

Regulatory Flexibility Analysis Required: No.

Agency Contact: Bryan R. Diederich, Office of the General Counsel, National Aeronautics and Space Administration, 300 E Street SW., Washington, DC 20746, Phone: 202 358-0216, Email: bryan.r.diederich@nasa.gov.

RIN: 2700-AD83

[FR Doc. 2017-17030 Filed 8-23-17; 8:45 am]

BILLING CODE 7510-13-P